FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Applications for Employment with the Board of Governors of the Federal Reserve System (FR 28; OMB No. 7100-0181).

DATES: Comments must be submitted on or before September 15, 2025.

ADDRESSES: You may submit comments, identified by FR 28, by any of the following methods:

• Agency website: https://www.federalreserve.gov/. Follow the instructions for submitting comments, including attachments. Preferred method.

• Mail: Ann E. Misback, Secretary, Board of Governors of the Federal Reserve System, 20th Street and Constitution Avenue NW, Washington, DC 20551.

• Hand Delivery/Courier: Same as mailing address.

• Other Means: publiccomments@frb.gov. You must include the OMB number or the FR number in the subject line of the message.

Comments received are subject to public disclosure. In general, comments received will be made available on the Board's website at https://www.federalreserve.gov/apps/proposals/ without change and will not be modified to remove personal or business information including confidential, contact, or other identifying information. Comments should not include any information such as confidential information that would not be appropriate for public disclosure. Public comments may also be viewed electronically or in person in Room M-4365A, 2001 C St. NW, Washington, DC 20551, between 9 a.m. and 5 p.m. during Federal business weekdays.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/review or may be requested from the agency clearance officer, whose name appears above. On the page displayed at the link above, you can find the supporting information by referencing the collection identifier, FR 28. Final versions of these documents will be made available at https://www.reginfo.gov/public/do/PRAMain, if approved.

Request for Comment on Information Collection Proposals

The Board invites public comment on the following information collections, which are being reviewed under authority delegated by the OMB under the PRA. Comments are invited on the following:

a. Whether the proposed collections of information are necessary for the proper performance of the Board's functions, including whether the information has practical utility;

b. The accuracy of the Board's estimate of the burden of the proposed information collections, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collections

Collection title: Applications for Employment with the Board of Governors of the Federal Reserve System.

Collection identifier: FR 28.

OMB control number: 7100-0181.

General description of collection: The forms that comprise the FR 28 are used to manage the Board's hiring process by collecting needed information on candidates. The FR 28a (Application for Employment), is used to examine, rate, or assess the applicant's qualifications, and to contact the applicant to arrange an interview. The FR 28a can be completed either online in two parts (the Initial Application portion and, if selected for an interview, the Interview Selection portion) or in its entirety as a PDF. The FR 28s (Applicant's Voluntary Self-Identification) is used for equal employment opportunity (EEO) recordkeeping, reporting, and self-evaluation of hiring practices. The FR 28i (Research Assistant Application) is a supplement to the FR 28a and is used to collect contact information for an application for employment as a Research Assistant (RA), including to help match an RA candidate's interests with the different research areas at the Board and determine the applicants' data analysis and programming experience. The FR 28c (Pre-Hire Conflict of Interest Screening Form) is used to ensure advance knowledge of a prospective employee's potential conflicts of interest.

Proposed revisions: The Board proposes to revise the FR 28a by removing one data field. The Board proposes to revise the FR 28s by changing one data field. The Board proposes to revise the FR 28i by adding eight new data fields and removing one data field, and to revise the FR 28c by adding a new section to the form and updating the language of several of the questions for readability and to include questions about financial assets not previously contemplated due to technological changes that have occurred. Lastly, the Board proposes to revise the FR 28 clearance to include a new Reference Check Form (FR 28r).

Frequency: Event-generated.

Respondents: Individuals seeking employment with the Board.

Total estimated number of respondents: FR 28a (Initial Application), 32,600; FR 28a (Interview Selection), 1,769; FR 28a (PDF), 238; FR 28s, 32,838; FR 28i, 330; FR 28c, 2007; FR 28r, 650.

Estimated average hours per response: FR 28a (Initial Application), 0.48; FR 28a (Interview Selection), 1.51; FR 28a (PDF), 1.69; FR 28s, 0.02; FR 28i, 0.91; FR 28c, 0.62; FR 28r, 0.34.

Total estimated change in burden: −62.

Total estimated annual burden hours: 21,143.

Board of Governors of the Federal Reserve System, July 12, 2025.
Benjamin W. McDonough,
Deputy Secretary and Ombuds of the Board.

[FR Doc. 2025-13276 Filed 7-15-25; 8:45 am]

BILLING CODE 6210-01-P